INTERNATIONAL TRADE COMMISSION

Information Quality Guidelines

AGENCY: International Trade Commission.

ACTION: Notice.

SUMMARY: The United States International Trade Commission (Commission) announces that its draft Information Quality Guidelines have been posted on the Commission website. The Commission invites public comments on its draft Guidelines and will consider the comments received in developing its final Guidelines.

DATES: Comments are due on or before June 20, 2002. Final Guidelines are to be published by October 1, 2002.

ADDRESSES: Submit comments to the Secretary, United States International Trade Commission, 500 E Street, SW., Washington, DC 20436.

FOR FURTHER INFORMATION CONTACT: Stephen A. McLaughlin, Acting Chief Information Officer, telephone 202-205-3131. Hearing-impaired individuals are advised that information on this matter may be obtained by contacting the Commission's TDD terminal on 202-205-3105. Persons with mobility impairments who will need special assistance in gaining access to the Commission should contact the Office of the Secretary at 202-205-2000.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB). In compliance with this statutory requirement and OMB instructions, the Commission has posted its draft Information Quality Guidelines on the Commission's website (www.usitc.gov).

The Guidelines describe the agency's procedures for ensuring the quality of information that it disseminates and the procedures by which an affected person may obtain correction of information disseminated by the Commission that does not comply with the Guidelines. The Commission invites public comments on its draft Guidelines and will consider the comments received in developing its proposed final Guidelines, which must be submitted to OMB for review. The agency's final Guidelines are to be published by October 1, 2002. Persons who cannot access the draft Guidelines through the Internet may request a paper or electronic copy by contacting the Office of the Secretary.

Issued: May 29, 2002.
By order of the Commission.
Marilyn R. Abbott,
Secretary.

International Trade Commission

Draft Information Quality Guidelines

1. Purpose. The United States International Trade Commission (Commission) issues these Information Quality Guidelines (Guidelines) to describe the agency's procedures for ensuring and maximizing the quality, objectivity, utility, and integrity of information that it disseminates and to set forth the administrative procedure by which an affected person may obtain correction of disseminated information that does not comply with the Guidelines.

2. Authority. The Guidelines are based on section 515 of the Treasury and General Government Appropriations Act, 2001 (Public Law No. 106-554) and the implementing guidelines of the Office of Management and Budget (OMB) published on September 28, 2001 (66 FR 49718) and February 22, 2002 (67 FR 8452).

3. Effective Date. The Guidelines are effective as of October 1, 2002.

4. Definitions. The definitions of “quality,” “utility,” “objectivity,” “integrity,” “information,” “Government information,” “information dissemination product,” “dissemination,” “influential,” and “reproducibility” contained in section V of the notice, “Guidelines for Ensuring and Maximizing the Quality, Objectivity, Utility, and Integrity of Information Disseminated by Federal Agencies,” as published by the Office of Management and Budget on February 22, 2002 (67 FR 8452), are incorporated herein by reference.

5. Applicability. The mission of the Commission is to: (1) Administer U.S. trade remedy laws within its mandate in a fair and objective manner; (2) provide the President, the United States Trade Representative, and Congress with independent, quality analysis, information, and support on matters of tariffs and international trade and competitiveness; and (3) maintain the Harmonized Tariff Schedule of the United States. In so doing, the Commission serves the public by implementing U.S. law and contributing to the development of sound and informed U.S. trade policy.

In carrying out its mission, the Commission generates a variety of information products. Some are subject to section 515 and OMB's implementing guidelines. These and the Commission guidelines corresponding to them are discussed below. Others do not fall within the coverage of the statute and guidelines. Such excluded information includes press releases, responses to Freedom of Information Act and Privacy Act requests, correspondence with individuals, information that is provided in response to individual requests, and links to other website pages from the Commission website. Because the government-wide guidelines also exclude information that is disseminated in “adjudicative processes,” the Commission Guidelines do not apply to decisions, orders, or any other documents disseminated in the course of Commission adjudicative proceedings. Initial determinations issued by Commission administrative law judges are subject to review by the Commission in accordance with applicable laws and regulations. Final Commission decisions, including initial determinations of administrative law judges that become final Commission decisions, are subject to judicial review in accordance with applicable laws and regulations.

The Commission also conducts import injury investigations under a number of statutory authorities. These investigations are not adjudicative proceedings, but are subject to judicial review in accordance with applicable laws and regulations. The Commission considers documents disseminated in such investigations to be sufficiently analogous to adjudicative processes for the purposes of section 515 to conclude that documents disseminated in those investigations are not covered by that statute or the OMB guidelines.

6. Basic Standard of Quality. The basic standard of quality for information disseminated by the Commission is “reasonable assurance.” The agency's procedures for ensuring the quality of information it disseminates are intended to provide reasonable assurance that the information is accurate, clear, unbiased, and useful for intended users, and secure from unauthorized access or revision. This basic quality standard is consistent with the standard employed in internal management reviews to ensure the effectiveness and efficiency of the agency's operations.

7. Procedures to Ensure Quality.

a. Research program products. Commission research products are produced by the Office of Operations with assistance from other staff offices. A team prepares a draft report which is then submitted to a rigorous review process, normally involving primary review and senior review by agency staff and then review and approval by the Commission. Once approved, the products are provided to customers. Much of the information that the Commission disseminates is confidential business information and/or national security information, and is made available only to authorized recipients. In general, information that is publicly disclosable is provided to the general public through the Commission's website and other means of dissemination.

The transparency of research products is assured, where appropriate, through inclusion of clear explanations of study methodology in report texts. Thus, to the extent that interested parties have appropriate access to the material, the statistical information and analyses that the Commission disseminates in its reports are available, and if appropriately qualified persons use the same or a similar methodology, they would be expected to generate similar findings and results.

b. Trade information. Commission trade information, including the Harmonized Tariff Schedule, is produced by the Office of Operations with assistance from other staff offices. Each product undergoes an internal review by subject matter experts prior to review by the Commission, where appropriate.

c. General information about the Commission. The Commission's Offices of External Relations and of the Secretary disseminate a variety of products that provide information about the agency. An example is the Commission's Year in Review publication that summarizes agency activities during the past year. The Office of External Relations reviews each such information product prior to its review and approval by the Commission, and its subsequent public dissemination.

The Commission issues a Strategic Plan, annual Performance Plan, and annual Performance Report in accordance with the Government Performance and Results Act (GPRA). These documents are prepared by subject matter experts and reviewed by Commission office directors, and are approved by the Commission prior to their issuance. The Commission and Commission staff also prepare various documents that describe agency processes, such as the Antidumping and Countervailing Duty Handbook and An Introduction to Administrative Protective Order in Import Injury Investigations, and these publications are subject to appropriate internal reviews by subject matter experts.

d. Integrity of information on the Commission website. Commission office directors and appropriate subject matter experts in their offices are responsible for ensuring that accurate, complete, and current information in each office's area of responsibility is provided to the webmaster for posting to the Commission website. Information maintained on the website for public dissemination is backed up regularly to permit restoration in the event of any compromise of the site.

e. Use of disclaimers. As a part of its procedures to ensure information quality, the Commission uses disclaimers where appropriate. A disclaimer notice regarding the accuracy and timeliness of information provided on the DataWeb website is included on that website. Staff research products, such as the International Economic Review and the Industry, Trade, and Technology Review, contain a disclaimer to advise users that the products are those of staff and do not represent the views of the Commission. Other disclaimers may be used, as appropriate, in future information dissemination products.

8. Requests for Correction of Disseminated Information. This section sets forth the administrative procedure by which an affected person may obtain correction of information disseminated by the Commission that does not comply with its Information Quality Guidelines. This administrative procedure applies only to requests for correction of disseminated information to which these Guidelines apply, as described in section 5 above. Only requests from an “affected person,” that is, a person who may benefit from or be harmed by reliance on information disseminated by the Commission under these Guidelines, will be considered. Requests for correction of information that are made in bad faith or without justification will be rejected. This procedure for the correction of information is not intended to have any effect on the Commission's conduct of adjudicative proceedings and non-adjudicative import injury investigations.

a. Request for correction. A request for correction of disseminated information that allegedly does not comply with the Commission Information Quality Guidelines must be submitted, in writing, to the Secretary to the Commission, U.S. International Trade Commission, 500 E Street, SW, Washington, DC 20436. The request for correction must specifically identify the disseminated information that allegedly does not comply with the Guidelines and explain how the requestor is affected by the information.

b. Initial decision. The Secretary to the Commission, or her designee, will review a request for correction of disseminated information and will issue a written initial decision to the requestor within 20 workdays of receipt of the request. The initial decision will advise the requestor of corrections made or, if the request is denied, will explain why no correction was made and advise the request for the opportunity to appeal the initial decision.

c. Appeal to the Chief Information Officer. A requestor may appeal an initial decision denying a request for correction of disseminated information to the Chief Information Officer (CIO) of the Commission. The appeal must be submitted, in writing, to the Chief Information Officer (CIO) of the Commission. The appeal must be submitted, in writing, to the Chief Information Officer, U.S. International Trade Commission, 500 E Street, SW, Washington, DC 20436. The appeal must be submitted no later than 10 workdays from the date of the initial decision. The appeal must include a copy of the request for correction, a copy of the Secretary's initial decision, a statement of the reasons why the decision is not satisfactory to the requestor, and a statement of what remedy would be satisfactory to the requestor. The CIO will issue a decision within 20 workdays of receipt of the appeal.

The decision of the CIO is final and is not subject to administrative or judicial review.

d. Reports. Beginning on January 1, 2004, and annually thereafter, the Commission will file reports with OMB that provide the number and nature of complaints received regarding information disseminated by the Commission and how the complaints were resolved.

9. Revisions to the Guidelines. Each Commission office that produces information dissemination products to which these Guidelines apply is responsible for notifying the CIO of the Commission whenever a change in the Guidelines with respect to the office's products is required. Changes may be required, for example, when a new information dissemination product is created or an existing product is discontinued, or when there is a change in the office's procedures for ensuring the quality of an information dissemination product for which the office is responsible. The CIO will initiate necessary changes to the Guidelines. When changes to the Guidelines are made, a revised version will be posted to the Commission's website.

[FR Doc. 02-13828 Filed 5-31-02; 8:45 am]

BILLING CODE 7020-20-M